FEDERAL ACCOUNTING STANDARDS ADVISORY BOARD

Notice of Meeting

AGENCY: Federal Accounting Standards Advisory Board.

ACTION: Notice of New Exposure Draft Heritage Assets and Stewardship Land: Reclassification From Required Supplementary Stewardship Information, and a Scheduled Public Hearing on Accounting and Fiduciary Activities.

Board Action: Pursuant to the Federal Advisory Committee Act (Pub. L. No. 92-463), as amended, section 10(a)(2), and the FASAB Rules of Procedure, as amended in October, 1999, notice is hereby given that the Federal Accounting Standards Advisory Board has published a new exposure draft, Heritage Assets and Stewardship Land: Reclassification from Required Supplementary Stewardship Information.

A summary of the proposed Statement follows: The proposed standard classifies heritage assets and stewardship land information as basic information, except for condition information, which would be classified as required supplementary information. The proposed standard also introduces minor changes to the current disclosure requirements for heritage assets and stewardship land by requiring policies and an explanation of how heritage assets and stewardship land are pertinent to the entity's mission. Additionally, it will be available on FASAB's home page http://www.fasab.gov/. Copies can be obtained by contacting FASAB at 202-512-7350, or loughanm@fasab.gov. Respondents are encouraged to comment on any part of the exposure draft. Written comments are requested by November 10, 2003, and should be sent to: Wendy M. Comes, Executive Director, Federal Accounting Standards Advisory Board, 441 G Street, NW., Suite 6814, Washington, DC 20548.

Notice is also given that a public hearing of the Federal Accounting Standards Advisory Board will be held on Wednesday, October 8, 2003 from 9:15 a.m. to 12 p.m. in room 7C13 of the General Accounting Office, 441 G Street, NW., Washington, DC.

The purpose of the hearing is to hear testimony from interested parties on Accounting for Fiduciary Activities. Those interested in testifying should contact Richard Fontenrose, Assistant Director, no later than one week prior to the hearing. Mr. Fontenrose can be reached at 202-512-7358 or via e-mail at fontenroser@fasab.gov.

Also, they should at the same time provide a short biography and written copies of their testimony. Any interested person may attend the public hearing as an observer. Board discussions and reviews are open to the public.

FOR FURTHER INFORMATION CONTACT: Wendy Comes, Executive Director, 441 G St., NW., Mail Stop 6K17V, Washington, DC 20548, or call (202) 512-7350.

Authority: Federal Advisory Committee Act. Pub. L. No. 92-463.

Dated: August 21, 2003.
Robert Bramlett,
Assistant Director.

[FR Doc. 03-21850 Filed 8-26-03; 8:45 am]

BILLING CODE 1610-01-M